DEPARTMENT OF ENERGY

Federal Energy Regulatory Commission

[Project No. 13631-000]

Main Mill Street Investments, LLC; Notice of Preliminary Permit Application Accepted for Filing and Soliciting Comments, Motions To Intervene, and Competing Applications

March 1, 2010.

On November 16, Main Mill Street Investments, LLC (Main Mill Street Investments) filed an application for a preliminary permit, pursuant to section 4(f) of the Federal Power Act, proposing to study the feasibility of the Imperial Mill Dam Hydroelectric Project No. 13631, to be located at the existing Imperial Mill Dam, on the on the Saranac River, in Clinton County, New York.

The proposed project would consist of: (1) An existing 21-foot-high by 205-foot-long concrete and masonry dam; (2) an existing 68-acre impoundment; (3) an existing 77-foot-long by 26-foot-wide powerhouse; (4) two new turbine generator units for a total installed capacity of 1.7 megawatts; (5) a new 50-foot-long, 46-kilovolt transmission line; and (6) appurtenant facilities. The proposed project would operate in run-of-river mode and generate an estimated average annual generation of 10,000 megawatt-hours.

Main Mill Street Investments: Rex Jacobsma, Main Mill Street Investments, LLC., 1508 Olive Street, Paso Robles, CA 93446, (805) 239-3090.

FERC Contact: Michael Watts, (202) 502-6123.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “eFiling” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13631) in the docket number field to access the document. For assistance, call toll-free 1-866-208-3372.

Kimberly D. Bose,
Secretary.

[FR Doc. 2010-4998 Filed 3-9-10; 8:45 am]

BILLING CODE 6717-01-P